SECURITIES AND EXCHANGE COMMISSION

[File No. 500-1]

In the Matter of Beverage Creations, Inc.; Order of Suspension of Trading

Date: March 12, 2008.

It appears to the Securities and Exchange Commission that the market for the securities of Beverage Creations, Inc. (“BCI”), quoted on the Pink Sheets under the ticker symbol BVRG, may be reacting to manipulative forces or deceptive practices and that there is a lack of current and accurate information about BCI upon which an informed investment decision can be made. For example, it appears that BCI distributed a press release falsely disclaiming its affiliation with a company that has been touting BCI's stock through a widely distributed promotional mailer. In addition to the promotional mailer, several stock promotion Web sites have featured BCI's stock, including one that has touted the stock through numerous e-mail alerts.

The Commission is of the opinion that the public interest and the protection of investors require a suspension of trading in the securities of the above listed company.

Therefore, it is ordered, pursuant to Section 12(k) of the Securities Exchange Act of 1934, that trading in the above listed company is suspended for the period from 9:30 a.m. EDT, March 12, 2008 through 11:59 p.m. EDT, on March 26, 2008.

By the Commission.
Nancy M. Morris,
Secretary.

[FR Doc. 08-1033 Filed 3-12-08; 10:19am]

BILLING CODE 8011-01-P